ENVIRONMENTAL PROTECTION AGENCY

[FRL-7248-7]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at (202) 566-1672, or e-mail at Auby.susan@epa.gov. and please refer to the appropriate EPA Information Collection Request (ICR) Number.

SUPPLEMENTARY INFORMATION:

OMB Responses to Agency Clearance Requests

OMB Approvals

EPA ICR No. 2070.01; Reporting and Recordkeeping Requirements for NESHAP: Standards for Hazardous Air Pollutants for Hazardous Waste Combustors (Final Amendments Rule); Final Rule; in 40 CFR part 63, subpart EEE was approved 05/10/2002; OMB No. 2050-0187; expires 10/31/2004.

EPA ICR No. 0801.14; Requirements for Generators, Transporters, and Disposers under the RCRA Hazardous Waste Manifest System; was approved 05/10/2002; in 40 CFR 262.20, 262.21, 262.22, 262.23, 262.40, 262.42, 262.54, 262.55, 263.20, 263.22, 264.71, 264.72, 262.76, 265.71, 265.72 and 265.76; OMB No. 2050-0039; expires 05/31/2005.

EPA ICR No. 1773.05; Amendments to the Reporting and Recordkeeping Requirements for National Emissions Standards for Hazardous Air Pollutants (NESHAP) for Hazardous Waste Combustors—Direct Final Rule; in 40 CFR part 63, subpart EEE; was approved 05/10/2002; OMB No. 2050-0171; expires 10/31/2004.

EPA ICR No. 1679.04; Federal Standards for Marine Tank Vessel Loading Operations and National Emission Standards for Hazardous Air Pollutants for Marine Tank Vessel Loading Operations; in 40 CFR part 63, subpart Y; was approved 05/09/2002; OMB No. 2060-0289; expires 05/31/2005.

EPA ICR No. 1432.21; Recordkeeping and Periodic Reporting of the Production, Import, Recycling, Destruction, Transshipment and Feedstock Use of Ozone-Depleting Substances; in 40 CFR part 82; was approved 05/09/2002; OMB No. 2060-0170; expires 05/31/2005.

EPA ICR No. 2069.01; Reporting and Recordkeeping Requirements for National Emissions Standards for NESHAP: Interim Standards for Hazardous Wastes Combustors(Interim Standards Rule); Final Rule; was approved 05/07/2002; OMB No. 2050-0186; expires 10/31/2004.

EPA ICR No. 2043.01; Institutional Controls Tracking Systems and Costs Survey; was approved 05/27/2002; OMB No. 2050-0185; expires 05/31/2005.

EPA ICR No. 1648.04; Control Technology Determination for Equivalent Emission Limitations by Permit; was approved 05/27/2002; in 40 CFR part 63, subpart B; OMB No. 2060-0266; expires 05/31/2005.

EPA ICR No. 1850.03; NESHAP Primary Copper Smelters; in 40 CFR part 63, subpart QQQ; was approved 05/23/2002; OMB No. 2060-0476; expires 05/31/2005.

EPA ICR No. 1362.04; National Emission Standards for Coke Oven Batteries; in 40 CFR 63, subpart L; was approved 05/31/2002; OMB No. 2060-0253; expires 05/31/2005.

EPA ICR No. 1965.01; Soil Ingestion Research; was approved 05/06/2002; OMB No. 2050-0188; expires 05/31/2005.

Short-Term Extensions

EPA ICR No. 0012.11; Motor Vehicle Exclusion Determination; in 40 CFR 85.1703; OMB No. 2060-0124; on 05/09/2002 OMB extended the expiration date through 08/31/2002.

EPA ICR No. 0167.06; Verification of Test Parameters and Parts Lists for Light-Duty Vehicles and Light-Duty Trucks; OMB No. 2060-0094; on 05/09/2002 OMB extended the expiration date through 08/31/2002.

EPA ICR No. 1154.05; NESHAP Benzene Emissions from Bulk Transfer Operations; in 40 CFR part 61, subpart BB; OMB No. 2060-0182; on 05/09/2002 OMB extended the expiration date through 08/31/2002.

EPA ICR No. 1852.01; Exclusion Determinations for New Non-Road Spark-Ignited Engines At or Below 19 Kilowatts, New Compression-Ignited Engines At or Above 37 Kilowatts, New Marine Engines, and New On-Road Heavy; OMB No. 2060-0395; in 40 CFR part 85, subpart R, part 89, subpart A, part 90, subpart J, part 91, subpart K; on 05/15/2002 OMB extend the expiration date through 06/30/2002.

EPA ICR No. 1601.04; Air Pollution Regulations for Outer Continental Shelf Activities; in 40 CFR part 55; OMB No. 2060-0249; on 05/15/2002 OMB extended the expiration date through 06/30/2002.

Comment Filed

EPA ICR No. 2023.01; Recordkeeping and Reporting Requirements for the Clay Ceramics Manufacturing NESHAP; on 05/09/2002 OMB filed comment.

EPA ICR No. 1952.01; National Emission Standards for Hazardous Air Pollutants; Metal Furniture Surface Coating Operations; on 05/09/2002 OMB filed comment.

EPA ICR No. 2032.01; Recordkeeping and Reporting Requirements for NESHAP for Hydrochloric Acid Production; on 05/09/2002; OMB filed comment.

EPA ICR No. 1897.03; Information Requirements of Marine Diesel Engines (Nonroad Large SI Engines and Marine Engines and Boats) (Amendments); on 05/16/2002 OMB filed comment.

EPA ICR No. 0783.43; Motor Vehicle Emission Standards and Emission Credits Provisions (Highway Motorcycles and Recreational Vehicle Amendments); OMB No. 2060-0104; on 05/16/2002 OMB filed comment.

EPA ICR No. 2027.01; Recordkeeping and Reporting Requirements for NESHAP for Flexible Polyurethane Foam Fabrication; on 5/23/2002 OMB filed comment.

Dated: July 11, 2002.
Oscar Morales,
Director, Collection Strategies Division.

[FR Doc. 02-18408 Filed 7-19-02; 8:45 am]

BILLING CODE 6560-50-P